NEIGHBORHOOD REINVESTMENT CORPORATION

Regular Board of Directors Sunshine Act Meeting

Time and Date: 3:00 p.m., Wednesday, February 17, 2016.

Place: NeighborWorks America—Gramlich Boardroom, 999 North Capitol Street NE., Washington, DC 20002.

Status: Open (with the exception of Executive Session).

Contact Person: Jeffrey Bryson, EVP & General Counsel/Secretary (202) 760-4101; jbryson@nw.org.

Agenda:

I. Call to Order

II. Approval of Minutes

III. Executive Session: Audit Committee Report

IV. Executive Session: Report from CEO

V. Executive Session: Compensation Review

VI. Sustainable Homeownership Project

VII. Fresh Start Project

VIII. Corporate Goals

IX. Strategic Plan Perspectives

X. Management Program Background & Updates

XI. Adjournment

The General Counsel of the Corporation has certified that in his opinion, one or more of the exemptions set forth in 5 U.S.C. 552b(c)(2) and (4) permit closure of the following portions of this meeting:

• Audit Committee Report

• Report from CEO

• Compensation Review

Jeffrey T. Bryson,
EVP and General Counsel/Corporate Secretary.

[FR Doc. 2016-02945 Filed 2-9-16; 4:15 pm]

BILLING CODE 7570-02-P